NUCLEAR REGULATORY COMMISSION

[NRC-2021-0049]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from January 8, 2021, to February 4, 2021. The last monthly notice was published on January 26, 2021.

DATES: Comments must be filed by March 25, 2021. A request for a hearing or petitions for leave to intervene must be filed by April 26, 2021.

ADDRESSES: You may submit comments by any of the following methods; however, the NRC encourages electronic comment submission through the Federal Rulemaking Website:

• Federal Rulemaking Website: Go to https://www.regulations.gov and search for Docket ID NRC-2021-0049. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001, telephone: 301-415-1384, email: Janet.Burkhardt@nrc.gov.

SUPPLEMENTARY INFORMATION:

I. Obtaining Information and Submitting Comments

A. Obtaining Information

Please refer to Docket ID NRC-2021-0049, facility name, unit number(s), docket number(s), application date, and subject when contacting the NRC about the availability of information for this action. You may obtain publicly available information related to this action by any of the following methods:

• Federal Rulemaking Website: Go to https://www.regulations.gov and search for Docket ID NRC-2021-0049.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking Website (https://www.regulation.gov). Please include Docket ID NRC-2021-0049, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy Nuclear Connecticut, Inc.; Millstone Power Station, Unit No. 3; New London County, CT
Docket No(s) | 50-423.
Application date | December 8, 2020.
ADAMS Accession No | ML20343A243.
Location in Application of NSHC | Pages 5-8 of Attachment 1.
Brief Description of Amendment(s) | The proposed license amendment would revise the Millstone Power Station Unit No. 3 Technical Specification (TS) 2.1.1, “Safety Limit, Reactor Core,” Safety Limit 2.1.1.2 to reflect the peak fuel centerline melt temperature specified in Topical Report WCAP-17642-P-A, Revision 1, “Westinghouse Performance Analysis and Design Model (PAD5),” dated November 2017 (non-proprietary version available in ADAMS under Accession No. ML17338A396).
Proposed Determination | NSHC.
Name of Attorney for Licensee, Mailing Address | Lillian M. Cuoco, Esq., Senior Counsel, Dominion Energy, Inc., 120 Tredegar Street, RS-2, Richmond, VA 23219.
NRC Project Manager, Telephone Number | Richard Guzman, 301-415-1030.
Energy Harbor Nuclear Corp. and Energy Harbor Nuclear Generation LLC; Perry Nuclear Power Plant, Unit 1; Lake County, OH
Docket No(s) | 50-440.
Application date | December 28, 2020.
ADAMS Accession No | ML20365A028.
Location in Application of NSHC | Pages 31-33 of the Enclosure.
Brief Description of Amendment(s) | The proposed amendment would revise the Perry Nuclear Power Plant emergency plan to eliminate on-shift staffing positions, increase emergency response facility (ERF) augmentation times, revise ERF staffing positions, revise facility position titles to be consistent with the Energy Harbor Nuclear Corp. fleet, and eliminate information from the emergency plan contained in implementing procedures and instructions.
Proposed Determination | NSHC.
Name of Attorney for Licensee, Mailing Address | Rick Giannantonio, General Counsel, Energy Harbor Nuclear Corp., Mail Stop A-GO-15, 76 South Main Street, Akron, OH 44308.
NRC Project Manager, Telephone Number | Scott Wall, 301-415-2855.
Energy Harbor Nuclear Corp. and Energy Harbor Nuclear Generation LLC; Perry Nuclear Power Plant, Unit 1; Lake County, OH
Docket No(s) | 50-440.
Application date | December 14, 2020.
ADAMS Accession No | ML20350B499.
Location in Application of NSHC | Pages 12-13 of the Enclosure.
Brief Description of Amendment(s) | The proposed amendment would modify technical specification requirements related to actions for inoperable residual heat removal (RHR) shutdown cooling subsystems. The changes are similar to Technical Specifications Task Force (TSTF) Traveler TSTF-566-A, “Revise Actions for Inoperable RHR Shutdown Cooling Subsystems,” that was approved on February 21, 2019 (ADAMS Accession No. ML19028A287), but also incorporate TSTF-580, “Provide Exception from Entering Mode 4 with no Operable RHR Shutdown Cooling,” that was submitted to the NRC on August 7, 2020 (ADAMS Accession No. ML20181A221).
Proposed Determination | NSHC.
Name of Attorney for Licensee, Mailing Address | Rick Giannantonio, General Counsel, Energy Harbor Nuclear Corp., Mail Stop A-GO-15, 76 South Main Street, Akron, OH 44308.
NRC Project Manager, Telephone Number | Scott Wall, 301-415-2855.
Entergy Operations, Inc.; Arkansas Nuclear One, Unit 2; Pope County, AR
Docket No(s) | 50-368.
Application date | November 17, 2020.
ADAMS Accession No | ML20322A426.
Location in Application of NSHC | Pages 28-30 of the Enclosure.
Brief Description of Amendment(s) | The proposed amendment would modify the Arkansas Nuclear One, Unit 2 technical specifications (TS) to incorporate the provisions of Limiting Condition for Operation (LCO) 3.0.6 of the Improved Standard Technical Specifications, which provide the actions to be taken when the inoperability of a support system results in the inoperability of a related supported system(s). The proposed change would also add a new Safety Function Determination Program to the Administrative Controls section of the TS to ensure that a loss of safety function is detected and appropriate actions are taken when using the provisions of the LCO.
Proposed Determination | NSHC.
Name of Attorney for Licensee, Mailing Address | Anna Vinson Jones, Senior Counsel, Entergy Services, Inc., 101 Constitution Avenue NW, Suite 200 East, Washington, DC 20001.
NRC Project Manager, Telephone Number | Thomas Wengert, 301-415-4037.
Exelon FitzPatrick, LLC and Exelon Generation Company, LLC; James A FitzPatrick Nuclear Power Plant; LLC; Oswego County, NY
Docket No(s) | 50-333.
Application date | December 11, 2020.
ADAMS Accession No | ML20346A025.
Location in Application of NSHC | Pages 4-6 of Attachment 1.
Brief Description of Amendment(s) | The proposed amendment would revise the technical specifications (TS) to adopt Technical Specifications Task Force (TSTF) Traveler TSTF-545, Revision 3, “TS Inservice Testing Program Removal & Clarify SR [Surveillance Requirement] Usage Rule Application to Section 5.5 Testing.” Specifically, the amendment would remove TS 5.5.7, “Inservice Testing Program,” add a new defined term, “INSERVICE TESTING PROGRAM,” to TS 1.1, “Definitions,” and make corresponding edits throughout the TS.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Exelon Generation Company, LLC; Calvert Cliffs Nuclear Power Plant, Units 1 and 2; Calvert County, MD
Docket No(s) | 50-317, 50-318.
Application date | November 24, 2020.
ADAMS Accession No | ML20329A334.
Location in Application of NSHC | Pages 2-5 of Attachment 1.
Brief Description of Amendment(s) | The proposed amendment would adopt Technical Specifications Task Force (TSTF) Traveler TSTF-567, Revision 1, “Add Containment Sump TS [Technical Specification] to Address GSl [Generic Safety Issue]-191 Issues.” Specifically, the amendment request proposes to (1) add a new TS section for the containment emergency sump, (2) move the surveillance requirement for containment emergency sump, and (3) revise the safety function determination program description to clarify its application when a supported system is made inoperable by the inoperability of a single TS support system.
Proposed Determination | NSHC.
Name of Attorney for Licensee, Mailing Address | Tamra Domeyer, Associate General Counsel, Exelon Generation Company, LLC, 4300 Winfield Road, Warrenville, IL 60555.
NRC Project Manager, Telephone Number | Michael L. Marshall, Jr., 301-415-2871.
Tennessee Valley Authority; Watts Bar Nuclear Plant, Units 1 and 2; Rhea County, TN
Docket No(s) | 50-390, 50-391.
Application date | December 15, 2020.
ADAMS Accession No | ML20350B764.
Location in Application of NSHC | Pages E7-E8 of the Enclosure.
Brief Description of Amendment(s) | The proposed amendments would revise Watts Bar Nuclear Plant, Units 1 and 2 Technical Specification Surveillance Requirement 3.6.15.4 to revise the shield building annulus pressure requirement, replace the inleakage requirement with a time requirement, and delete the shield building inleakage requirement of less than or equal to 250 cubic feet per minute.
Proposed Determination | NSHC.
Name of Attorney for Licensee, Mailing Address | Sherry Quirk, Executive VP and General Counsel, Tennessee Valley Authority, 400 West Summit Hill Drive, WT 6A, Knoxville, TN 37902.
NRC Project Manager, Telephone Number | Kimberly Green, 301-415-1627.
Vistra Operations Company LLC; Comanche Peak Nuclear Power Plant, Unit Nos. 1 and 2; Somervell County, TX
Docket No(s) | 50-445, 50-446.
Application date | August 31, 2020, as supplemented by letter dated January 27, 2021.
ADAMS Accession No | ML20244A338, ML21027A249.
Location in Application of NSHC | Pages 2-4 of the Enclosure.
Brief Description of Amendment(s) | The proposed amendments would adopt Technical Specifications Task Force (TSTF) Traveler TSTF-567, “Add Containment Sump TS [Technical Specification] to Address GSI [Generic Safety Issue]-191 Issues.” The amendments would revise the TS to address the condition of the containment sump made inoperable due to containment accident generated and transported debris exceeding the analyzed limits.
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Duke Energy Carolinas, LLC; Oconee Nuclear Station, Units 1, 2, and 3; Oconee County, SC
Docket No(s) | 50-269, 50-270, 50-287.
Amendment Date | January 26, 2021.
ADAMS Accession No | ML20335A001.
Amendment No(s) | 420 (Unit 1), 422 (Unit 2), and 421 (Unit 3).
Brief Description of Amendment(s) | The amendments revised the Oconee renewed facility operating licenses and technical specifications to implement a measurement uncertainty recapture power uprate. Specifically, the amendments authorized an increase in the maximum licensed rated thermal power from 2,568 megawatts thermal (MWt) to 2,610 MWt, which is an increase of approximately 1.64 percent.
Public Comments Received as to Proposed NSHC (Yes/No) | No.
Duke Energy Progress, LLC; Brunswick Steam Electric Plant, Units 1 and 2; Brunswick County, NC
Docket No(s) | 50-325, 50-324.
Amendment Date | January 26, 2021.
ADAMS Accession No | ML20253A321.
Amendment No(s) | 302 (Unit 1) and 330 (Unit 2).
Brief Description of Amendment(s) | The amendments revised Technical Specification (TS) 3.6.3.1, “Primary Containment Oxygen Concentration,” and present the requirements in a manner more consistent with the Standard Technical Specifications format and content, consistent with Technical Specifications Task Force (TSTF) Traveler TSTF-568, Revision 2, “Revise Applicability of BWR [Boiling-Water Reactor]/4 TS 3.6.2.5 and TS 3.6.3.2.”
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | January 28, 2021.
ADAMS Accession No | ML20345A236.
Amendment No(s) | 307 (Unit 1) and 197 (Unit 2).
Brief Description of Amendment(s) | The amendments revised Technical Specification (TS) 3.5.2, “ECCS [Emergency Core Cooling System]—Operating,” and TS 3.5.3, “ECCS—Shutdown.” The amendments also added new TS 3.6.9, “Containment Sump,” to Section 3.6, “Containment Systems.” The changes are based on Technical Specifications Task Force (TSTF) Traveler TSTF-567, Revision 1, “Add Containment Sump TS to Address GSI [Generic Safety Issue]-191 Issues.”
Public Comments Received as to Proposed NSHC (Yes/No) | No.
Energy Northwest; Columbia Generating Station; Benton County, WA
Docket No(s) | 50-397.
Amendment Date | January 25, 2021.
ADAMS Accession No | ML21005A178.
Amendment No(s) | 263.
Brief Description of Amendment(s) | The amendment revised the Columbia Generating Station technical specification actions applicable when a residual heat removal (RHR) shutdown cooling subsystem is inoperable. The changes are based on Technical Specifications Task Force (TSTF) Traveler TSTF-566, Revision 0, “Revise Actions for Inoperable RHR Shutdown Cooling Subsystems,” dated January 19, 2018 (ADAMS Accession No. ML18019B187), using the consolidated line item improvement process.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket No(s) | 50-416, 50-458.
Amendment Date | February 1, 2021.
ADAMS Accession No | ML21011A048.
Amendment No(s) | Grand Gulf—225 and River Bend—204.
Brief Description of Amendment(s) | The amendments adopted Technical Specifications Task Force (TSTF) Traveler TSTF-566, Revision 0, “Revise Actions for Inoperable RHR [Residual Heat Removal] Shutdown Cooling Subsystems,” dated January 19, 2018 (ADAMS Accession No. ML18019B187), which is an approved change to the Improved Standard Technical Specifications, into the Grand Gulf Nuclear Station, Unit 1 and River Bend Station, Unit 1 technical specifications. The model safety evaluation was approved by the NRC in a letter dated February 21, 2019 (ADAMS Accession No. ML19028A287), using the consolidated line item improvement process.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS
Docket No(s) | 50-416, 50-458.
Amendment Date | February 2, 2021.
ADAMS Accession No | ML21011A068.
Amendment No(s) | Grand Gulf—226 and River Bend—205.
Brief Description of Amendment(s) | The amendments adopted Technical Specifications Task Force (TSTF) Traveler TSTF-439, “Eliminate Second Completion Times Limiting Time from Discovery of Failure to Meet an LCO [Limiting Condition for Operation],” Revision 2, dated June 20, 2005 (ADAMS Accession No. ML051860296), into the technical specifications for Grand Gulf Nuclear Station, Unit 1 and River Bend Station, Unit 1.
Public Comments Received as to Proposed NSHC (Yes/No) | No.
Exelon Generation Company, LLC; Calvert Cliffs Nuclear Power Plant, Units 1 and 2; Calvert County, MD
Docket No(s) | 50-317, 50-318.
Amendment Date | January 26, 2021.
ADAMS Accession No | ML20363A242.
Amendment No(s) | 339 (Unit 1) and 317 (Unit 2).
Brief Description of Amendment(s) | The amendments permit the use of accident tolerant fuel lead test assemblies and made an administrative change to the technical specifications. Up to two lead test assemblies of the Framatome PROtectTM fuel design are allowed to be loaded into the Calvert Cliffs Nuclear Power Plant, Unit 1 and Unit 2, reactors for up to three cycles.
Public Comments Received as to Proposed NSHC (Yes/No) | No.
Exelon Generation Company, LLC; Dresden Nuclear Power Station, Units 2 and 3; Grundy County, IL; Exelon Generation Company, LLC; LaSalle County Station, Units 1 and 2; LaSalle County, IL; Exelon Generation Company, LLC; Limerick Generating Station, Units 1 and 2; Montgomery County, PA; Exelon Generation Company, LLC; Peach Bottom Atomic Power Station, Units 2 and 3; York County, PA; Exelon Generation Company, LLC; Quad Cities Nuclear Power Station, Units 1 and 2; Rock Island County, IL; Nine Mile Point Nuclear Station, LLC and Exelon Generation Company, LLC; Nine Mile Point Nuclear Station, Unit 2; Oswego County, NY
Docket No(s) | 50-237, 50-249, 50-373, 50-374, 50-352, 50-353, 50-410, 50-277, 50-278, 50-254, 50-265.
Amendment Date | February 4, 2021.
ADAMS Accession No | ML21013A005.
Amendment No(s) | Dresden—273 (Unit 2) and 266 (Unit 3); LaSalle—247 (Unit 1) and 233 (Unit 2); Limerick—251 (Unit 1) and 213 (Unit 2); Peach Bottom—336 (Unit 2) and 339 (Unit 3); Quad Cities—285 (Unit 1) and 281 (Unit 2); Nine Mile Point—184 (Unit 2).
Brief Description of Amendment(s) | The amendments revised certain technical specification requirements for the following physical parameters: (1) The drywell-to-suppression chamber differential pressure at Dresden and Quad Cities; (2) the primary containment oxygen concentration at Dresden, LaSalle, Nine Mile Point, Peach Bottom, and Quad Cities; and (3) the drywell and suppression chamber oxygen concentration at Limerick. The changes are based, in part, on Technical Specifications Task Force (TSTF) Traveler TSTF-568, Revision 2, “Revise Applicability of BWR [Boiling-Water Reactor]/4 TS 3.6.2.5 and TS 3.6.3.2” (ADAMS Accession No. ML19141A122).
Public Comments Received as to Proposed NSHC (Yes/No) | No.
Indiana Michigan Power Company; Donald C. Cook Nuclear Plant, Unit 1; Berrien County, MI
Docket No(s) | 50-315.
Amendment Date | January 12, 2021.
ADAMS Accession No | ML20329A001.
Amendment No(s) | 356.
Brief Description of Amendment(s) | The amendment revised the reactor coolant system heatup and cooldown curves and the low temperature overpressure protection (LTOP) requirements in Technical Specification (TS) 3.4.3 and TS 3.4.12, respectively. The changes to the LTOP requirements in TS 3.4.12 also required conforming changes to be made to TSs 3.4.6, 3.4.7, and 3.4.10.
Public Comments Received as to Proposed NSHC (Yes/No) | No.
Indiana Michigan Power Company; Donald C. Cook Nuclear Plant, Units 1 and 2; Berrien County, MI
Docket No(s) | 50-315, 50-316.
Amendment Date | January 15, 2021.
ADAMS Accession No | ML20366A155.
Amendment No(s) | 357 (Unit 1) and 336 (Unit 2).
Brief Description of Amendment(s) | The amendments revised Technical Specification 5.5.12, “Technical Specifications (TS) Bases Control Program,” to align it with the Updated Final Safety Analysis Report update frequency and schedule.
Public Comments Received as to Proposed NSHC (Yes/No) | No.
Nine Mile Point Nuclear Station, LLC and Exelon Generation Company, LLC; Nine Mile Point Nuclear Station, Unit 2; Oswego County, NY
Docket No(s) | 50-410.
Amendment Date | January 29, 2021.
ADAMS Accession No | ML20332A115.
Amendment No(s) | 183.
Brief Description of Amendment(s) | The amendment permits the implementation of a risk-informed process for the categorization and treatment of structures, systems, and components, subject to special treatment controls. Also, the amendment added a license condition to the license that identifies action items that need to be completed prior to implementing the risk-informed categorization process and identifies possible changes to the risk-informed categorization process that would require prior NRC approval.
Public Comments Received as to Proposed NSHC (Yes/No) | No.
Northern States Power Company; Monticello Nuclear Generating Plant; Wright County, MN
Docket No(s) | 50-263.
Amendment Date | January 8, 2021.
ADAMS Accession No | ML20352A349.
Amendment No(s) | 205.
Brief Description of Amendment(s) | The amendment revised the technical specifications related to reactor pressure vessel (RPV) water inventory control (WIC) based on Technical Specifications Task Force (TSTF) Travelers TSTF-582, Revision 0, “RPV WIC Enhancements,” and TSTF-583-T, Revision 0, “TSTF-582 Diesel Generator Variation.”
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | January 21, 2021.
ADAMS Accession No | ML20168B004.
Amendment No(s) | 278 (Unit 1) and 260 (Unit 2).
Brief Description of Amendment(s) | The amendments revised the renewed facility operating licenses and technical specifications to allow application of the Framatome analysis methodologies necessary to support a planned transition to ATRIUM 11 fuel under the currently licensed Maximum Extended Load Line Limit Analysis operating domain.
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391.
Amendment Date | January 12, 2021.
ADAMS Accession No | ML20268A082.
Amendment No(s) | Browns Ferry—314 (Unit 1), 337 (Unit 2), and 297 (Unit 3); Sequoyah—351 (Unit 1) and 345 (Unit 2); and Watts Bar—140 (Unit 1) and 46 (Unit 2).
Brief Description of Amendment(s) | The amendments revised the technical specifications (TS) for Browns Ferry Nuclear Plant, Units 1, 2, and 3; Sequoyah Nuclear Plant, Units 1 and 2; and Watts Bar Nuclear Plant, Units 1 and 2, to remove the tables of contents from the TS and place them under licensee control. In addition, the amendments made two other administrative changes to the Sequoyah Nuclear Plant, Units 1 and 2; and Watts Bar Nuclear Plant, Units 1 and 2 TSs.
Public Comments Received as to Proposed NSHC (Yes/No) | No.
Tennessee Valley Authority; Sequoyah Nuclear Plant, Unit 1; Hamilton County, TN
Docket No(s) | 50-327.
Amendment Date | February 1, 2021.
ADAMS Accession No | ML20337A037.
Amendment No(s) | 353.
Brief Description of Amendment(s) | The amendments modified the technical specifications to reduce the steam generator tube inspection frequency.
Public Comments Received as to Proposed NSHC (Yes/No) | No.
Tennessee Valley Authority; Sequoyah Nuclear Plant, Units 1 and 2; Hamilton County, TN; Tennessee Valley Authority; Watts Bar Nuclear Plant, Units 1 and 2; Rhea County, TN
Docket No(s) | 50-327, 50-328, 50-390, 50-391.
Amendment Date | January 25, 2021.
ADAMS Accession No | ML20350B493.
Amendment No(s) | Sequoyah—352 (Unit 1), 346 (Unit 2); Watts Bar—141 (Unit 1), and 47 (Unit 2).
Brief Description of Amendment(s) | The amendments revised the technical specifications to adopt Technical Specifications Task Force (TSTF) Traveler TSTF-569, Revision 2, “Revise Response Time Testing Definition” (ADAMS Accession No. ML19176A034).
Public Comments Received as to Proposed NSHC (Yes/No) | No.
Vistra Operations Company LLC; Comanche Peak Nuclear Power Plant, Unit Nos. 1 and 2; Somervell County, TX
Docket No(s) | 50-445, 50-446.
Amendment Date | February 1, 2021.
ADAMS Accession No | ML20346A019.
Amendment No(s) | 177 (Unit 1) and 177 (Unit 2).
Brief Description of Amendment(s) | The amendments revised Technical Specification (TS) 3.8.1, “AC [Alternating Current] Sources—Operating,” to change the emergency diesel generator surveillance requirement (SR) steady-state frequency band in multiple SRs from a band from 58.8 hertz (Hz) to 61.2 Hz to a band from 59.9 Hz to 60.1 Hz. The amendments also removed historical information from TS 3.8.1 and a Note from SR 3.8.1.13.
Public Comments Received as to Proposed NSHC (Yes/No) | No.

IV. Previously Published Notices of Consideration of Issuance of Amendments to Facility Operating Licenses and Combined Licenses, Proposed No Significant Hazards Consideration Determination, and Opportunity for a Hearing

The following notices were previously published as separate individual notices. They were published as individual notices either because time did not allow the Commission to wait for this monthly notice or because the action involved exigent circumstances. They are repeated here because the monthly notice lists all amendments issued or proposed to be issued involving NSHC.

For details, including the applicable notice period, see the individual notice in the Federal Register on the day and page cited.

License Amendment Request(s)—Repeat of Individual Federal Register Notice
Indiana Michigan Power Company; Donald C. Cook Nuclear Plant, Unit 2; Berrien County, MI
Docket No(s) | 50-316.
Application Date | December 14, 2020.
ADAMS Accession No | ML20363A011.
Brief Description of Amendment(s) | The proposed amendment would revise the Donald C. Cook Nuclear Plant, Unit 2, technical specifications to allow a one-time change to permit the current integrated leak rate test interval of 15 years to be extended by approximately 18 months to no later than the plant startup after the fall 2022 refueling outage.
Date & Cite of Federal Register Individual Notice | January 12, 2021 (86 FR 2460).
Expiration Dates for Public Comments & Hearing Requests | February 11, 2021 (Public Comments); March 15, 2021 (Hearing Requests).
Tennessee Valley Authority; Watts Bar Nuclear Plant, Unit 2; Rhea County, TN
Docket No(s) | 50-391.
Application Date | December 23, 2020.
ADAMS Accession No | ML20358A141.
Brief Description of Amendment(s) | The proposed amendment would revise the Watts Bar Updated Final Safety Analysis Report to apply alternate eddy current probabilities of detection to indications of axial outer diameter stress corrosion cracking at tube support plates in the Watts Bar, Unit 2, steam generators for the beginning-of-cycle voltage distribution in support of the Watts Bar, Unit 2, operational assessment. The proposed probability of determination values will only be used until the Watts Bar, Unit 2, steam generators are replaced.
Date & Cite of Federal Register Individual Notice | January 8, 2021 (86 FR 1545).
Expiration Dates for Public Comments & Hearing Requests | February 8, 2021 (Public Comments); March 9, 2021 (Hearing Requests).

Dated: February 10, 2021.
For the Nuclear Regulatory Commission.
Philip J. McKenna,
Acting Deputy Director, Division of Operating Reactor Licensing, Office of Nuclear Reactor Regulation.

[FR Doc. 2021-03107 Filed 2-22-21; 8:45 am]

BILLING CODE 7590-01-P